POSTAL SERVICE

39 CFR Part 111

Parcels Prepared in Soft Packaging

AGENCY: Postal Service™.

ACTION: Proposed rule; withdrawal.

SUMMARY: The Postal Service is withdrawing the proposed rule that would have added new subsections to establish parcel selvage standards and to clarify how to measure parcels prepared in soft packaging.

DATES: The proposed rule published on March 24, 2022 (87 FR 16700), is withdrawn effective [immediately or June 13, 2022.

FOR FURTHER INFORMATION CONTACT: Karen F. Key at (202) 268-7492 or Garry Rodriguez at (202) 268-7281.

SUPPLEMENTARY INFORMATION: In the proposed rule that was published in the Federal Register on March 24, 2022, the Postal Service proposed to implement a two-inch maximum of selvage on the length and the width of a parcel prepared in soft packaging and to provide a clarification defining how to measure parcels prepared in soft packaging to generally determine the length, width, and height of the mailpiece.

In consideration of concerns expressed by members of the mailing community during the proposed rule comment period, the Postal Service has elected to withdraw the proposed rule.

Joshua J. Hofer,
Attorney, Ethics & Legal Compliance.

[FR Doc. 2022-12596 Filed 6-10-22; 8:45 am]

BILLING CODE P